NUCLEAR REGULATORY COMMISSION

[NRC-2010-0002]

Sunshine Federal Register Notice

Agency Holding The Meetings: Nuclear Regulatory Commission.

Date: Weeks of June 28, July 5, 12, 19, 26, August 2, 2010.

Place: Commissioners' Conference Room, 11555 Rockville Pike, Rockville, Maryland.

Status: Public and Closed.

Week of June 28, 2010

There are no meetings scheduled for the week of June 28, 2010.

Week of July 5, 2010—Tentative

Thursday, July 8, 2010

1:30 p.m. Briefing on Proposed Rule on Part 35 Medical Events Definitions—Permanent Implant Brachytherapy (Public Meeting).

(Contact: Andrew Carrera, 301-415-1078).

This meeting will be webcast live at the Web address— http://www.nrc.gov.

Week of July 12, 2010—Tentative

Tuesday, July 13, 2010

9:30 a.m. Briefing on the Radiation Source Protection and Security Task Force Report (Closed—Ex. 9).

Week of July 19, 2010—Tentative

There are no meetings scheduled for the week of July 19, 2010.

Week of July 26, 2010—Tentative

There are no meetings scheduled for the week of July 26, 2010.

Week of August 2, 2010—Tentative

There are no meetings scheduled for the week of August 2, 2010.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g., braille, large print), please notify Angela Bolduc, Chief, Employee/Labor Relations and Work Life Branch, at 301-492-2230, TDD: 301-415-2100, or by e-mail at angela.bolduc@nrc.gov. mailto:dlc@nrc.gov.mailto:aks@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: June 24, 2010.
Rochelle C. Bavol,
Policy Coordinator, Office of the Secretary.

[FR Doc. 2010-15879 Filed 6-25-10; 4:15 pm]

BILLING CODE 7590-01-P